ENVIRONMENTAL PROTECTION AGENCY

40 CFR Part 70

[FRL-7223-6]

Clean Air Act Approval of Revisions to Operating Permits Program in Oregon

AGENCY: Environmental Protection Agency (EPA).

ACTION: Proposed rule.

SUMMARY: EPA is proposing to approve, as a revision to Oregon's title V air operating permits program, a 1999 statute addressing the State's requirements for judicial standing to challenge State-issued title V permits. In a Notice of Deficiency published on November 30, 1998 (63 FR 65783), EPA notified Oregon of EPA's finding that the State's requirements for judicial standing did not meet minimum Federal requirements for program approval. This program revision would resolve the deficiency identified in the Notice of Deficiency. EPA is also proposing to approve, as a revision to Oregon's title V air operating permits program, changes to Oregon's title V regulations made in 1999 that reorganize and renumber the regulations and increase title V fees.

In the Final Rules section of this Federal Register, the EPA is publishing its approval as a direct final rule without prior proposal because the Agency views this as a non-controversial determination and anticipates no adverse comments. A detailed rationale for the approval is set forth in the direct final rule. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received on or before July 10, 2002.

ADDRESSES: Written comments should be mailed to Denise Baker, Environmental Protection Specialist, Office of Air Quality, Mailcode OAQ-107, U.S. Environmental Protection Agency, Region 10, 1200 Sixth Avenue, Seattle, Washington, 98101. Copies of Oregon's submittal, and other supporting information used in developing this action, are available for inspection during normal business hours at the U.S. Environmental Protection Agency, Region 10, 1200 Sixth Avenue, Seattle, Washington, 98101. Interested persons wanting to examine these documents should make an appointment with the appropriate office at least 24 hours before the visiting day.

FOR FURTHER INFORMATION CONTACT: Denise Baker, Office of Air Quality, Mailcode, OAQ-107, U.S. Environmental Protection Agency, Region 10, 1200 Sixth Avenue, Seattle, Washington 98101, (206) 553-8087.

SUPPLEMENTARY INFORMATION: For additional information, see the Direct Final rule which is located in the Rules section of this Federal Register.

Dated: May 22, 2002.
Elbert Moore,
Acting Regional Administrator, Region 10.

[FR Doc. 02-13973 Filed 6-7-02; 8:45 am]

BILLING CODE 6560-50-P